DEPARTMENT OF HOMELAND SECURITY

Coast Guard

33 CFR Part 165

[Docket No. USCG-2010-0790]

Security Zone, Mackinac Bridge, Straits of Mackinac, Michigan

AGENCY: Coast Guard, DHS.

ACTION: Notice of enforcement of regulation.

SUMMARY: The Coast Guard will enforce the Mackinac Bridge Walk security zone on the Straits of Mackinac from 6 a.m. through 11:59 p.m. on September 6, 2010. This action is necessary to protect pedestrians during the event from an accidental or intentional allision between a vessel and the bridge. During the enforcement period, navigational and operational restrictions will be placed on all vessels and persons transiting through the Straits area, under and around the Mackinac Bridge, located between Mackinaw City, MI, and St. Ignace, MI. All vessels and persons must obtain permission from the Captain of the Port (COTP) or a designated representative to enter or move within the security zone.

DATES: The regulations in 33 CFR 165.928 will be enforced from 6 a.m. through 11:59 p.m. on September 6, 2010.

FOR FURTHER INFORMATION CONTACT: If you have questions on this temporary rule, call or e-mail BMC Gregory Ford, Marine Event Coordinator, U.S. Coast Guard Sector Sault Sainte Marie; telephone 906-635-3222, e-mail Gregory.C.Ford@uscg.mil.

SUPPLEMENTARY INFORMATION: The Coast Guard will enforce the security zone for the annual Labor Day Mackinac Bridge Walk in 33 CFR 165.928 on September 6, 2010, from 6 a.m. to 11:59 p.m.

Under provisions of 33 CFR 165.928, a vessel or person may not enter or move within the regulated area, unless permission is received from the COTP or a designated representative. The Coast Guard may be assisted by other Federal, State, or local law enforcement agencies in enforcing this regulation.

This notice is issued under the authority of 33 CFR 165.928 and 5 U.S.C. 552(a). In addition to this notice in the Federal Register, the Coast Guard will provide the maritime community with advance notification of this enforcement period via a Local Broadcast Notice to Mariners. If the COTP determines that the regulated area need not be enforced for the full duration stated in this notice, he may use a Broadcast Notice to Mariners to grant general permission to enter the regulated area.

Dated: August 24, 2010.
J.C. McGuiness,
Captain, U.S. Coast Guard, Captain of the Port, Sault Sainte Marie.

[FR Doc. 2010-21896 Filed 9-1-10; 8:45 am]

BILLING CODE 9110-04-P